NUCLEAR REGULATORY COMMISSION

[Docket No. 72-16; NRC-2014-0154]

North Anna Power Station Independent Spent Fuel Storage Installation

AGENCY: Nuclear Regulatory Commission.

ACTION: Environmental assessment and finding of no significant impact; issuance.

SUMMARY: The U.S. Nuclear Regulatory Commission (NRC) is considering a license amendment request for the Special Nuclear Materials (SNM) License SNM-2507 for the North Anna Power Station (NA) independent spent fuel storage installation (ISFSI) located in Louisa County, Virginia.

DATES: The environmental assessment and finding of no significant impact referenced in this document are available on February 27, 2015.

ADDRESSES: Please refer to Docket ID NRC-2014-0154 when contacting the NRC about the availability of information regarding this document. You may obtain publicly-available information related to this document using any of the following methods:

• Federal Rulemaking Web site: Go to http://www.regulations.gov and search for Docket ID NRC-2014-0154. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jean Trefethen, Office of Nuclear Material Safety and Safeguards, U.S. Nuclear Regulatory Commission, Washington, DC 20555-0001; telephone: 301-415-5137, email: Jean.Trefethen@nrc.gov.

SUPPLEMENTARY INFORMATION:

I. Introduction

The NRC is considering a license amendment request for Special Nuclear Materials License Number SNM-2507 for the NA ISFSI located in Louisa County, Virginia (ADAMS Accession No. ML14160A707). The applicant, Virginia Electric and Power Company (Dominion), is proposing to amend Technical Specifications (TS) 4.2.3, “Storage Pad,” to define the minimum center-to-center spacing for Transnuclear-32 spent nuclear fuel storage casks, with heat loads no greater than 27.1 kilowatts (kW), from 16 feet (feet) to 14 feet. The NRC staff has prepared a final environmental assessment (EA) as part of its review of this proposed license amendment in accordance with the requirements in part 51 of Title 10 of the Code of Federal Regulations (10 CFR). Based on the final EA, the NRC has determined that a Finding of No Significant Impact (FONSI) is appropriate. The NRC is also conducting a safety evaluation of the proposed license amendment pursuant to 10 CFR part 72, and the results will be documented in a separate Safety Evaluation Report (SER). If Dominion's request is approved, the NRC will issue the license amendment following publication of this final EA and FONSI and the SER.

II. Final Environmental Assessment Summary

On August 23, 2011, during an earthquake centered in Mineral, Virginia, 25 of 27 of the Transnuclear-32 casks on NA ISFSI Pad I shifted from their original positions. The shifting changed the center-to-center spacing of the casks from 16 feet to a range of 15 feet 2.25 inches to 16 feet 11.25 inches. Dominion is proposing to amend SNM-2507 TS 4.2.3, which would change the allowable distance between individual casks (center-to-center) from a nominal 16 feet to a minimum of 14 feet for those casks with heat loads no greater than 27.1 kW. Dominion is requesting this license amendment in lieu of moving the 25 casks back to their original, pre-earthquake positions and spacing. If approved, the proposed license amendment would allow the casks to remain in their current positions.

The NRC has assessed the potential environmental impacts associated with the proposed action of amending SNM-2507 TS 4.2.3, as well as the no-action alternative, and has documented the results in the final EA (ADAMS Accession No. ML15022A575). The NRC staff performed its environmental review in accordance with the requirements in 10 CFR part 51. In conducting the environmental review, the NRC considered information in the license amendment application; information in the responses to the NRC's requests for additional information (RAIs); communications with Dominion, the Virginia State Historic Preservation Office, the Virginia Department of Game and Inland Fisheries and the Virginia Department of Health; information from the NRC inspections; and the NRC's independent analysis.

Approval of Dominion's proposed license amendment would allow the casks to remain in place at their current post-earthquake positions and spacing, and no changes to Dominion's operation and maintenance of the NA ISFSI are associated with the proposed action. Because the proposed action would authorize Dominion to leave the casks in their current positions, rather than taking action to return the casks to their pre-earthquake positions, no significant radiological or non-radiological impacts are expected to result from approval of the license amendment request, and the proposed action would not significantly contribute to cumulative impacts at the NA site. There would be no disproportionally high and adverse impacts on minority and low-income populations. The Virginia State Historic Preservation Office concurred with the NRC's determination that the proposed action would not affect historic properties, and the U.S. Fish and Wildlife Service concurred with the NRC's determination that the proposed action would not affect listed species or critical habitats. Furthermore, the NRC determined that the proposed action is more favorable than the no-action alternative (denial of the license amendment request), which would require movement of the casks back to their pre-earthquake positions and spacing. Thus, the NRC concludes that the proposed action will not result in a significant effect on the quality of the human environment.

III. Finding of No Significant Impact

Based on its review of the proposed action, in accordance with the requirements in 10 CFR part 51, the NRC has concluded that the proposed action, amendment of NRC Special Nuclear Materials License No. SNM-2507 for the NA ISFSI located in Louisa County, Virginia, will not significantly affect the quality of the human environment. Therefore, the NRC has determined, pursuant to 10 CFR 51.31, that preparation of an environmental impact statement is not required for the proposed action and a FONSI is appropriate.

Dated at Rockville, Maryland, this 20th day of February, 2015.
For the Nuclear Regulatory Commission.
Marissa G. Bailey,
Director, Division of Fuel Cycle Safety, Safeguards, and Environmental Review, Office of Nuclear Material Safety and Safeguards.

[FR Doc. 2015-04133 Filed 2-26-15; 8:45 am]

BILLING CODE 7590-01-P